DEPARTMENT OF THE INTERIOR

National Park Service

Ecological Restoration Plan, Environmental Impact Statement, Bandelier National Monument, NM

AGENCY: National Park Service, Department of the Interior.

ACTION: Notice of intent to prepare an environmental impact statement for the Ecological Restoration Plan, Bandelier National Monument.

SUMMARY: Under the provisions of the National Environmental Policy Act of 1969, 42 U.S.C. 4332 (C), the National Park Service is preparing an environmental impact statement for the ecological restoration plan for Bandelier National Monument. Human activities in the late 1800s and early 1900s, including historic overgrazing and fire suppression, have led to the large-scale loss or alteration of Bandelier's vegetation communities (grasslands, woodlands and forests), soils, and the erosion and potential loss of integrity of an estimated 2,500 archeological sites. This planning effort will help guide the Monument in restoring healthy, sustainable vegetative communities on the land it manages as well as protect archeological sites. The objectives of this planning effort are to: (1) Increase native perennial herbaceous cover in woodlands to reduce runoff, erosion, and further loss of cultural resources, (2) create conditions that support a fire regime within the natural range of variability, (3) reduce conifer encroachment on montane meadow and aspen stands, (4) manage vegetative communities using an active program of research and monitoring, and (5) sustain support for and actively share information about vegetative management actions and research efforts through interpretation, education, consultation, and collaboration with partners, neighbors, pueblos, and communities. The National Park Service will be looking at a variety of ways to achieve these objectives during the public scoping process.

Major issues include:

• The noise and presence of human activity and other activities and their temporary effects on designated wilderness in the monument (approximately 70% of monument area) or on other monument lands during treatment of vegetation.

• The displacement and disturbance of some species of wildlife by management activities and the attraction of other wildlife during treatment.

• In the long term, vegetative communities would return to a state where ecosystem processes operate within the natural range of variability. This will likely mean changes in wildlife species, reduced erosion, reduced risk of devastating crown fires, stabilization of the monument's archeological resources, and a decrease in surface water runoff.

A scoping brochure has been prepared that details the issues identified to date. The brochure may be obtained from the monument's Web site or from the address and phone number included at the end of this notice.

DATES: The Park Service will accept comments from the public for 30 days from the date this notice is published in the Federal Register. In addition, the National Park Service intends to conduct public scoping open houses at two locations, in Los Alamos and Santa Fe, New Mexico. Please check local newspapers, the monument's Web site www.nps.gov/BAND or contact the name listed below to find out when and where these open houses will be held.

ADDRESSES: Information will be available for public review and comment in the office of the Superintendent, Steven D. Bone, Bandelier National Monument, Los Alamos, New Mexico 87544, (505) 672-3861 x 502.

FOR FURTHER INFORMATION CONTACT: Ecological Restoration EIS, c/o John A. Mack, Bandelier National Monument, HCR 1, Box 1, Suite 15, Los Alamos, New Mexico 87544. Phone (505) 672-3861, extension 563.

SUPPLEMENTARY INFORMATION: If you wish to comment on the scoping brochure or on any other issues associated with the plan, you may submit your comments by any one of several methods. You may mail comments to John A. Mack at the address above. You may also comment via the Internet to bandeis@nps.gov. Please submit Internet comments as an ASCII file and avoid the use of special characters and any form of encryption. Please also include “Attn: ECOLOGICAL RESTORATION PLAN EIS” and your name and return address in your Internet message. If you do not receive a confirmation that we have received your Internet message, contact us directly at (505) 672-3861, extension 563. Finally, you may hand-deliver comments to the Park Visitor Center, Bandelier National Monument, Los Alamos, New Mexico, 87544. Our practice is to make comments, including names and home addresses of respondents, available for public review during regular business hours. Individual respondents may request that we withhold their home address from the record, which we will honor to the extent allowable by law. There also may be circumstances in which we would withhold from the record a respondent's identity, as allowable by law. If you wish us to withhold your address, you must state this prominently at the beginning of your comment. We will make all submissions from organizations or businesses, and from individuals identifying themselves as representatives or officials of organizations or businesses, available for public inspection in their entirety.

Dated: January 24, 2003.
Karen P. Wade,
Director, Intermountain Region, National Park Service.

[FR Doc. 03-7949 Filed 4-1-03; 8:45 am]

BILLING CODE 4310-70-P